OFFICE OF SCIENCE AND TECHNOLOGY POLICY

Request for Information: Public Input on the Sustained Assessment Process of the U.S. National Climate Assessment

ACTION: Notice of Request for Information.

SUMMARY: The U.S. Global Change Research Program (USGCRP) has a legal mandate to conduct a National Climate Assessment (NCA) not less frequently than every four years. Under its current decadal strategic plan (http://go.usa.gov/3qGU4), USGCRP is building sustained assessment capacity to support the Nation's ability to understand, anticipate, and respond to global change impacts and vulnerabilities. The recent Third NCA process and resulting 2014 Report (http://nca2014.globalchange.gov/) provide a foundation for subsequent activities and reports under the sustained assessment process. More broadly, climate assessments increasingly involve participation and leadership by state, local, and tribal governments as well as the private sector. Noting these developments in the climate assessment landscape, USGCRP seeks ideas about (1) what scientific information on climate change, impacts, and responses would be of most value to inform future assessment activities; (2) how to effectively communicate climate change assessment information; and (3) what mechanisms could be used to more effectively connect to other assessment-related efforts. Public responses to these questions will be evaluated and, if appropriate, used to inform the structure and content of USGCRP's sustained National Climate Assessment process. Updates on the sustained assessment will be posted on the NCA Web site (http://assessment.globalchange.gov) as they are available.

DATES: Comments will be accepted through June 15, 2015.

ADDRESSES: Comments from the public will be accepted electronically at http://www.globalchange.gov/notices. Instructions for submitting are on the Web site. Submitters may enter text and/or upload files in response to the three questions listed above.

If you are unable to submit comments electronically, you may submit comments by mail to: Attn: Emily Cloyd, U.S. Global Change Research Program, 1717 Pennsylvania Ave. NW., Suite 250, Washington, DC 20006.

Instructions: Response to this RFI is voluntary. Respondents need not reply to all questions. Responses to this RFI may be used by the government for program planning on a non-attribution basis. OSTP therefore requests that no business proprietary information or copyrighted information be submitted in response to this RFI. Please note that the U.S. Government will not pay for response preparation, or for the use of any information contained in the response.

FOR FURTHER INFORMATION CONTACT: Emily Therese Cloyd, (202) 223-6262, ecloyd@usgcrp.gov, U.S. Global Change Research Program.

SUPPLEMENTARY INFORMATION: Background information, additional details, and instructions for submitting comments can be found at www.globalchange.gov/notices. For more information about the NCA and access to previous NCA reports and activities, please see http://assessment.globalchange.gov.

Ted Wackler,
Deputy Chief of Staff and Assistant Director.

[FR Doc. 2015-10352 Filed 5-5-15; 8:45 am]

BILLING CODE 3270-F5-P